FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency makes the final determinations listed below of modified base flood elevations for each community listed. These modified elevations have been published in newspapers of local circulation and ninety (90) days have elapsed since that publication. The Acting Administrator has resolved many appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4. National Environmental Policy Act. This rule is categorically excluded from the requirements of 44 CFR Part 10, Environmental Consideration. No environmental impact assessment has been prepared.

Regulatory Flexibility Act. The Acting Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alabama: Autauga, Elmore, Lowndes, & Montgomery (FEMA Docket No. D-7521) | City of Montgomery | Jan. 15, 2002, Jan. 22, 2002, The Montgomery Advertiser | The Honorable Bobby N. Bright, Mayor of the City of Montgomery, P.O. Box 1111, Montgomery, Alabama 36101-1111 | Apr. 23, 2002 | 010174 F
Connecticut: Fairfield (FEMA Docket No. D-7521) | Town of Greenwich | Feb. 11, 2002, Feb. 18, 2002, Greenwich Times | Mr. Richard Bergstresser, First Selectman for the Town of Greenwich, 101 Field Point Road, Greenwich, Connecticut 06830 | Feb. 4, 2002 | 090008 C
Florida:
Pinellas (FEMA Docket No. D-7521) | City of St. Petersburg | Nov. 14, 2001, Nov. 21, 2001, St. Petersburg Times | The Honorable Rick Baker, Mayor of the City of St. Petersburg, P.O. Box 2842, St. Petersburg, Florida 33731-2842 | Nov. 7, 2001 | 125148 B&C
Leon (FEMA Docket No. D-7521) | City of Tallahassee | Jan. 16, 2002, Jan. 23, 2002, Tallahassee Democrat | The Honorable Scott Maddox, Mayor of the City of Tallahassee, City Hall, 300 South Adams Street, Tallahassee, Florida 32301-1731 | Apr. 24, 2002 | 120144 D
Manatee (FEMA Docket No. D-7521) | Unincorporated Areas | Jan. 15, 2002, Jan. 21, 2002, Sarasota Herald Tribune | Mr. Ernie Padgett, County Administrator, 1112 Manatee Avenue West, P.O. Box 1000, Bradenton, Florida 34206 | Jan. 7, 2002 | 120153 C
Orange (FEMA Docket No. D-7521) | Unincorporated Areas | Jan. 16, 2002, Jan. 23, 2002, The Orlando Sentinel | Dr. M. Krishnamurthy, P.E., Orange County Stormwater Management Department, 4200 South John Young Parkway, Orlando, Florida 32839-9205 | Apr. 24, 2002 | 120179 E
Georgia: Harris (FEMA Docket No. D-7521) | Unincorporated Areas | Jan. 2, 2002, Jan. 9, 2002, Harris County Journal | Ms. Carol Silva, Harris County Manager, P.O. Box 365, Hamilton, Georgia 31811 | Dec. 26, 2001 | 130338 A
Indiana: Noble (FEMA Docket No. D-7521) | Unincorporated Areas | Feb. 5, 2002, Feb. 12, 2002 The Sun-News | Mr. Mark Pankap, President of the Noble County Board of Commissioners, Noble County Courthouse, 101 North Orange Street, Albion, Indiana 46701 | May 14, 2002 | 180183 B
Mississippi: Forrest and Lamar (FEMA Docket No. D-7521) | City of Hattiesburg | Jan. 24, 2002, Jan. 30, 2002, Hattiesburg American | The Honorable J. Ed Morgan, Mayor of the City of Hattiesburg, P.O. Box 1898, Hattiesburg, Mississippi 39403 | Jan. 16, 2002 | 280053 C
North Carolina: Nash and Edgecomb (FEMA Docket No. D-7521) | City of Rocky Mount | Jan. 25, 2002, Feb. 1, 2002, Rocky Mount Telegram | Mr. Stephen W. Raper, Rocky Mount City Manager, P.O. Box 1180, Rocky Mount, North Carolina 27802-1180 | May 3, 2002 | 370092 C
Pennsylvania:
Carbon (FEMA Docket No. D-7521) | Township of Lower Towamensing | Dec. 28, 2001, Jan. 4, 2002, Times News | Mr. Glen Hahn, Chairman, Township of Lower Towamensing Board of Supervisors, 595 Hahns Dairy Road, Palmerton, Pennsylvania 18701 | Apr. 5, 2002 | 421455 A
Carbon (FEMA Docket No. D-7521) | Borough of Palmerton | Dec. 28, 2001, Jan. 4, 2002, Times News | Mr. John Vignone, Borough of Palmerton Council President, 443 Delaware Avenue, Palmerton, Pennsylvania 18701 | Apr. 5, 2002 | 420253 A
South Carolina: Richland (FEMA Docket No. D-7521) | Unincorporated Areas | Dec. 26, 2001, Jan. 2, 2002, The State Newspaper | Mr. T. Cary McSwain, Richland County Administrator, P.O. Box 192, 2020 Hampton Street, Columbia, South Carolina 29202 | Dec. 19, 2001 | 450170 G
Tennessee:
Sumner and Davidson (FEMA Docket No. D-7521) | City of Goodlettsville | Dec. 27, 2001, Jan. 3, 2002, The Tennessean | The Honorable Bobby T. Jones, Mayor of the City of Goodlettsville, City Hall, 105 South Main Street, Goodlettsville, Tennessee 37072 | Apr. 4, 2002 | 470287 C
McNairy (FEMA Docket No. D-7521) | Unincorporated Areas | Jan. 16, 2002, Jan. 23, 2002, Independent Appeal | Mr. Mike Smith, McNairy County Executive, McNairy County Courthouse, 170 West Court Avenue, Selmer, Tennessee 38375 | Apr. 24, 2002 | 470127 D
Shelby (FEMA Docket No. D-7521) | Unincorporated Areas | Jan. 18, 2002, Jan. 25, 2002, Daily News | The Honorable Jim Rout, Mayor of Shelby County, 160 North Main Street, Suite 850, Memphis, Tennessee 38103 | Apr. 26, 2002 | 470214 E
Virginia: Prince William (FEMA Docket No. D-7521) | Unincorporated Areas | Feb. 7, 2002, Feb. 14, 2002, Potomac News | Mr. Craig Gerhart, Prince William County Executive, 1 County Complex Court, Prince William, Virginia 22192 | May 16, 2002 | 510119 D

(Catalog of Federal Domestic Assistance No. 83.100, “Flood Insurance”)
Dated: July 2, 2002.
Robert F. Shea,
Acting Administrator, Federal Insurance and Mitigation Administration.

[FR Doc. 02-17277 Filed 7-9-02; 8:45 am]

BILLING CODE 6718-04-P